DEPARTMENT OF STATE

[Public Notice 6697]

Bureau of Educational and Cultural Affairs (ECA) Request for Grant Proposals: Community College Initiative Program

Announcement Type: New Cooperative Agreement.

Funding Opportunity Number: ECA/A/S/U-10-01.

Catalog of Federal Domestic Assistance Number: 19.009.

Key Dates:

Application Deadline: September 25, 2009.

Executive Summary:

The Bureau of Educational and Cultural Affairs (ECA) announces an open competition for one or more assistance awards to administer the Community College Initiative Program, which will support study by international undergraduate students at accredited U.S. community colleges. The Program provides quality educational programs, professional development, employment skills and a first-hand understanding of American society to underserved, non-elite international students, particularly women, who already have some work experience. The Bureau anticipates supporting students from developing countries in every world region in this program including (subject to change) such countries as Brazil, Indonesia, Pakistan, and South Africa, as well as other countries. Community college consortia and other associations of community colleges meeting the provisions described in Internal Revenue Code section 501(c) may submit proposals to cooperate with the Bureau in the administration and implementation of the 2010 Community College Initiative Program. For planning purposes, the Bureau invites proposals from eligible organizations for a program at a total funding level of approximately $8.5 million pending availability of FY2010 resources. Applicants may apply to administer the entire program or a portion thereof. Applicant organizations should indicate the number of participants that can be accommodated at the requested funding level based on detailed calculations of program and administrative costs. In order to maximize the number of participants under this program, it is the Bureau's expectation that significant institutional and private sector funding and cost sharing will be made available by cooperating institutions. We anticipate that approximately 250 to 275 students will participate in the FY2010 program.

I. Funding Opportunity Description

Authority:

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose:

The Community College Initiative Program demonstrates abroad the U.S. commitment to education for all by providing access to educational opportunities to a broad sector of international students. The Bureau is engaged with the community college sector in the United States to increase the number of international students enrolled at U.S. community colleges and to reinforce community college efforts to build international ties. U.S. community colleges can make a unique contribution to international educational exchange by demonstrating the flexibility and relevance of American higher education. By providing quality technical and first-level professional education, community colleges enable students from developing countries to acquire skills and to gain experiences that will equip them to participate constructively in their countries' efforts to progress economically and politically. Community colleges can also provide a model of lower-cost, community-based, higher education that offers wide access to skills development for existing jobs.

International students selected for academic study at accredited U.S. community colleges under this program will receive educational opportunities, professional development, and an exposure to American society that will enable them to return home with unique skills and experience with which to contribute to the growth and development of their countries. Upon return, these students will be able to enter the skilled work force and fill important needs in their home countries.

Guidelines:

Applicants are requested to submit a narrative of no more than 20 double-spaced, single-sided pages outlining a comprehensive strategy for the administration and implementation of the Community College Initiative Program including the following program components: Identification of accredited U.S. community colleges to host participants in groups of approximately 12 students, with colleges with limited international experience hosting smaller cohorts. Host colleges should have expertise in the fields of study of the students accepted for placement.

Proposals should anticipate the placement of students in the following fields:

• Agriculture

• Applied Engineering

• Business Management and Administration

• Health Professions including Nursing

• Information Technology

• Media

• Tourism and Hospitality Management

Programs in agriculture, applied engineering, business management and administration, information technology, media, and tourism and hospitality management should last one academic year. Programs in the health professions, including nursing, may last up to 18 months. All programs of study should lead to a certificate or an Associate Degree. Programs should include unpaid internships and service learning opportunities. Academic programs should begin in Fall 2010.

Proposals should describe in detail a system for review and placement of candidates nominated by U.S. Embassies and Fulbright Commissions abroad for the approval of ECA. Proposals should also explain processes for developing and disseminating pre-departure orientation materials, registering participants in SEVIS under the Bureau's sponsorship with a program number to be provided by the Bureau, and organizing post-arrival orientation programming.

Pre-academic intensive English language training should be provided in the Spring of 2010 to those participants who lack adequate English to function effectively in the U.S. classroom as evidenced by standardized test scores. Pre-academic English language training should take place at host colleges. Pre-arrival distance learning and in-country English training options may also be proposed. Proposals should also describe English as a Second Language programs and services at the participating colleges for students needing additional language work during the academic year.

Proposals should explain how participants will engage in enrichment activities, and should include creative ideas for exposing participants broadly to American institutions, society and culture. For example, these activities may include presentations to college classes, local schools and the community; involvement with local families; and attendance at educational and cultural events with a U.S. focus.

Proposals should also outline procedures for advising, monitoring and supporting participants; for evaluating their programs; and for follow-up with program alumni.

An applicant organization may propose to administer the entire program or a portion thereof based on the organization's interest and capacity in one or more of the specified fields. A proposal should be consistent with the applicant organization's institutional capacities and the range of fields in which the proposed host colleges have expertise.

The budget should provide funding for round-trip travel for all participants, pre-academic intensive English language training for seventy-five per cent of the participating students, tuition, books, and living costs as well as costs for program administration. An applicant organization should explain processes for providing maintenance, book, and other allowances to participating students and for paying tuition fees directly to host colleges. If possible, to streamline administrative procedures and to maintain the flexibility to respond to program developments as they occur, organizations should propose processes to provide payments to participants and colleges directly without requiring formal sub-agreements with the host colleges.

Cost-sharing is expected from organizations applying to cooperate with the Bureau on this program. Applicant organizations are encouraged to include third-party contributions in their proposals.

Proposals should demonstrate depth of experience in conducting and administering complex and multi-faceted international education programs. Proposals should provide a plan for continued follow-on activity (without Bureau support), such as tracking and maintaining updated lists of all alumni and facilitating follow-up activities with alumni, including list serves.

Programs and projects must conform with the requirements and guidelines outlined in the Solicitation Package, which includes the Request for Grant Proposals (RFGP), the Project Objectives, Goals and Implementation (POGI) and the Proposal Submission Instructions (PSI).

In a cooperative agreement, the Bureau is substantially involved in program activities above and beyond routine grant monitoring. Bureau activities and responsibilities for this program include:

(1) Participation in the design and direction of program activities;

(2) Approval of key personnel;

(3) Approval and input on program timelines and agendas;

(4) Guidance in execution of all program components;

(5) Review and approval of all program publicity and other materials;

(6) Approval of host campuses;

(7) Final selection of participating students;

(8) Approval of changes to students' proposed academic field or institution;

(9) Approval of decisions related to special circumstances or problems throughout duration of program;

(10) Assistance with SEVIS-related issues;

(11) Assistance with participant emergencies;

(12) Liaison with relevant U.S. Embassies, Fulbright commissions and country desk officers at the State Department.

Pending availability of funds, grants should begin on or around December 1, 2009 and will run through November 30, 2012. Grants will include both the administrative and program portions of the program.

II. Award Information

Type of Award: Cooperative Agreement.

ECA's level of involvement in this program is listed under number I above.

Fiscal Year Funds: FY 2010.

Approximate Total Funding: $8,500,000.

Approximate Number of Awards: Pending the review and approval of successful proposals, the Bureau intends to make approximately one to six awards under this competition.

Approximate Average Award: The size of the awards will depend on the number and quality of the proposals submitted, and on the distribution of fields on which the recommended proposals focus. The maximum award available will be approximately $8,500,000. The Bureau anticipates that the minimum award available will be approximately $1,000,000.

Anticipated Award Date: Pending availability of funds, December 1, 2009.

Anticipated Project Completion Date: November 30, 2012.

Additional Information:

For each field of study, participants should be grouped at one or more colleges with a strong program of instruction in the field. Colleges will place participants in the fields of agriculture, applied engineering, business management and administration, information technology, media, and tourism and hospitality management in certificate programs lasting one academic year. Colleges may also place students in health professions, including nursing, in programs lasting more than one year but no more than 18 months. Programs in health professions, including nursing, should culminate in a certificate or an Associate Degree. Those proposals that focus resources on more costly programs lasting 18 months should demonstrate significant levels of cost-sharing. Subject to the availability of funds in subsequent fiscal years, it is ECA's intent to renew the cooperative agreement(s) for two additional fiscal years before openly competing it again.

III. Eligibility Information

III.1. Eligible applicants

Applications may be submitted by public and private non-profit organizations meeting the provisions described in Internal Revenue Code section 26 U.S.C. 501(c)(3) that are consortia of accredited U.S. community colleges, or other combinations of multiple community college campuses. Applications must designate a lead institution to receive and administer the award.

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Bureau grant and cooperative agreement guidelines require that organizations with less than four years experience in conducting international exchanges be limited to $60,000 in Bureau funding. Due to the scope and complexity of this program, organizations with less than a four-year track record in conducting international exchanges are ineligible to apply under this competition.

The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information To Request an Application Package

Please contact Karene Grad, ECA/A/S/U, SA-5, Floor 4, Department of State, Washington, DC 20522-0504; e-mail GradKX@state.gov to request a Solicitation Package. Please refer to the Funding Opportunity Number ECA/A/S/U-10-01 located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Bureau Program Officer Karene Grad and refer to the Funding Opportunity Number ECA/A/S/U-10-01 located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy, and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. The award recipient will be responsible for issuing DS-2019 forms to participants in this program.

A copy of the complete regulations governing the administration of Exchange Visitor (J) programs is available at http://exchanges.state.gov or from: Office of Designation, ECA/EC/D, SA-5, Floor C2, Department of State, Washington, DC 20522-0582.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

Describe in your proposal your plans for: Overall program management, staffing, coordination with ECA and with community colleges enrolling groups of participants, and learning and service opportunities for participants. Please provide a staffing plan which outlines the responsibilities of each staff person and explains which staff members will be accountable for each program responsibility.

IV.3e. Please take the following information into consideration when preparing your budget:

IV.3e.1 Applicants must submit a comprehensive budget for the complete program or a portion of the program. The total funding available for this program is approximately $8,500,000 for both program and administrative costs. Applicants may apply to administer total funds of less than $8,500,000, proportionate with the program being proposed. Please indicate clearly the number of participants to be funded and the budget total for both administrative and program costs. Applicant institutions must present a summary budget as well as breakdowns including both administrative and program budgets. Applicants may provide separate sub-budgets for each program component, phase, location, or activity to provide clarification.

IV.3e.2 Allowable costs for the program and additional budget guidance are outlined in detail in the POGI document.

Please refer to the Solicitation Package for complete budget guidelines and formatting instructions.

IV.3F Application Deadline and Methods of Submission:

Application Deadline Date: September 25, 2009.

Reference Number: ECA/A/S/U-10-01.

Methods of Submission:

Applications may be submitted in one of two ways:

(1) In hard-copy, via a nationally recognized overnight delivery service (i.e., Federal Express, UPS, Airborne Express, or U.S. Postal Service Express Overnight Mail, etc.), or

(2) Electronically through http://www.grants.gov.

Please Note: ECA strongly encourages organizations interested in applying for this competition to submit printed, hard copy applications as outlined in section IV.3f.1., below rather than submitting electronically through Grants.gov. This recommendation is being made as a result of the anticipated high volume of grant proposals that will be submitted via the Grants.gov webportal as part of the Recovery Act stimulus package. As stated in this RFGP, ECA bears no responsibility for data errors resulting from transmission or conversion processes for proposals submitted via Grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven copies of the application should be sent to:

Program Management Division, ECA-IIP/EX/PM, Ref.: ECA/A/S/U-10-01, SA-5, Floor 4, Department of State, 2200 C Street, NW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. embassies for their review.

IV.3f.2—Submitting Electronic Applications

Applicants have the option of submitting proposals electronically through Grants.gov (http://www.grants.gov). Complete solicitation packages are available at Grants.gov in the “Find” portion of the system. Please follow the instructions available in the `Get Started' portion of the site (http://www.grants.gov/GetStarted).

Please Note: ECA strongly encourages organizations interested in applying for this competition to submit printed, hard copy applications as outlined in section IV.3f.1. above, rather than submitting electronically through Grants.gov. This recommendation is being made as a result of the anticipated high volume of grant proposals that will be submitted via the Grants.gov webportal as part of the Recovery Act stimulus package. As stated in this RFGP, ECA bears no responsibility for data errors resulting from transmission or conversion processes for proposals submitted via Grants.gov.

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support,

Contact Center Phone: 800-518-4726,

Business Hours: Monday-Friday, 7a.m.-9 p.m. Eastern Time,

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

Optional—IV.3f.3 You may also state here any limitations on the number of applications that an applicant may submit and make it clear whether the limitation is on the submitting organization, individual program director or both.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission as well as the objectives of the Community College Initiative Program. Proposals should demonstrate an understanding of issues faced by countries in the developing world as related to the program goals. A detailed agenda and relevant work plan should demonstrate substantive undertakings and logistical capacity for participants placed in field-related clusters. The agenda and plan should adhere to the program overview and guidelines described above.

2. Ability to achieve program objectives: Objectives should be reasonable, feasible, and flexible. Proposals should clearly demonstrate how the institution will meet the Community College Initiative Program's objectives and plan and should address each program component.

3. Multiplier effect/impact: Proposals should strengthen long-term mutual understanding, including maximum sharing of information and individual linkages. The proposed strategy should maximize the Program's potential to maintain community college links with Program alumni.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity and Ability: Proposed personnel and institutional resources should be adequate and appropriate to achieve the program's goals. Proposals should describe the applicant's knowledge of, or prior experience with, international students and visitors, and the applicant's experience in educating students in the targeted subject fields. Proposals should demonstrate an institutional record of successful exchange programs involving the hosting of international students and visitors, including responsible fiscal management and full compliance with all reporting requirements for past Bureau grants or cooperative agreements. The Bureau will consider the past performance of prior recipients and the demonstrated potential of new applicants.

6. Follow-on Activities: Proposals should provide a plan for continued follow-on activity (without Bureau support) ensuring that Bureau supported programs are not isolated events. Activities should include tracking and maintaining updated lists of all alumni and facilitating follow-up activities with alumni, including electronic list serves.

7. Project Evaluation: Proposals should include a plan and methodology to evaluate the program's degree of success in meeting program objectives, both as the activities unfold and at the end of the program. A draft survey questionnaire or other technique plus description of a methodology to use to link outcomes to original project objectives is recommended. Successful applicants will be expected to submit intermediate reports after each project component is concluded, or quarterly, whichever is less frequent.

8. Cost-effectiveness: The overhead and administrative components of the proposal, including salaries and honoraria, should be kept as low as possible. All other items should be necessary and appropriate. Proposals should maximize cost-sharing through institutional direct funding contributions and private sector support. Budget estimates should be as accurate as possible over the full period of the cooperative agreement.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants. http://fa.statebuy.state.gov

VI.3. Reporting Requirements

You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports;

(4) Quarterly financial reports;

(5) Annual program reports for the first and second year of the agreement.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Karene Grad, ECA/A/S/U, SA-5, Floor 4, Department of State, Washington, DC 20522-0504; e-mail GradKX@state.gov.

All correspondence with the Bureau concerning this RFGP should reference the above title and number ECA/A/S/U-10-01.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: July 6, 2009.
C. Miller Crouch,
Acting Assistant Secretary for Educational and Cultural Affairs, Department of State.

[FR Doc. E9-16926 Filed 7-15-09; 8:45 am]

BILLING CODE 4710-05-P